DEPARTMENT OF VETERANS AFFAIRS

[OMB Control No. (2900-NEW)]

Proposed Information Collection (Servicemember Group Life Insurance (SGLI) Disability Extension Application); Comment Request

AGENCY: Veterans Benefits Administration, Department of Veterans Affairs

ACTION: Notice

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to this notice. This notice solicits comments on the information needed by the Office of Servicemembers' Group Life Insurance to establish the insured's eligibility for the extension.

DATES: Written comments and recommendations on the proposed collection of information should be received on or before June 6, 2014.

ADDRESSES: Submit written comments on the collection of information through Federal Docket Management System (FDMS) at www.Regulations.gov; or to Nancy J. Kessinger, Veterans Benefits Administration (20M35), Department of Veterans Affairs, 810 Vermont Avenue NW., Washington, DC 20420 or email nancy.kessinger@va.gov. Please refer to “OMB Control No. 2900—NEW (SGLI Disability Extension Application” in any correspondence. During the comment period, comments may be viewed online through FDMS.

FOR FURTHER INFORMATION CONTACT: Nancy J. Kessinger at (202) 632-8924 or FAX (202) 632-8925.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: SGLI Disability Extension Application.

OMB Control Number: 2900—NEW.

Type of Review: New collection.

Abstract: SGLI covered members who are totally disabled when released or separated from such service are entitled to a free extension of their SGLI coverage for the period of their total disability or two years, whichever ends first. This form is needed prior to expiration of the regulatory time periods so that totally disabled Veterans can apply for this free insurance benefit as soon as possible and receive an extension of their SGLI coverage in order to protect their beneficiaries in the event of their death. The information requested is authorized by law, 38 U.S.C. 1966(a), 1967(a), 38 U.S.C. 1968 (a)(1)-(4).

Affected Public: Individuals or households.

Estimated Annual Burden: 2,083 hours.

Estimated Average Burden per Respondent: 25 minutes.

Frequency of Response: Once.

Estimated Number of Respondents: 5,000.

DATED: April 2, 2014.
By direction of the Secretary.
Crystal Rennie,
Department Clearance Officer, Department of Veterans Affairs.

[FR Doc. 2014-07664 Filed 4-4-14; 8:45 am]

BILLING CODE 8320-01-P